DEPARTMENT OF THE INTERIOR

Bureau of Land Management

[LLIDC000000. 16XL1109AF .L10100000.DF0000.241A.00; 4500099889]

Notice of Cancellation of Public Meeting, Coeur d'Alene District Resource Advisory Council, Idaho

AGENCY: Bureau of Land Management, Interior.

ACTION: Notice of cancellation of public meeting.

SUMMARY: The Bureau of Land Management (BLM) Coeur d'Alene District Resource Advisory Council meeting has been cancelled.

DATES: The Bureau of Land Management (BLM) Coeur d'Alene District Resource Advisory Council meeting scheduled for October 4 and 5, 2016 in Orofino, Idaho is cancelled. Any rescheduling will be announced through a subsequent Federal Register notice and local news media.

FOR FURTHER INFORMATION CONTACT: Suzanne Endsley, RAC Coordinator, Coeur d'Alene District, 3815 Schreiber Way, Coeur d'Alene, ID 83815. Telephone: (208) 769-5004. Email: sendsley@blm.gov.

SUPPLEMENTARY INFORMATION: The 15-member RAC advises the Secretary of the Interior, through the Bureau of Land Management, on a variety of planning and management issues associated with public land management in Idaho.

Authority: 43 CFR 1784.4-1

Dated: September 23, 2016.
Linda Clark,
BLM Coeur d'Alene District Manager.

[FR Doc. 2016-24097 Filed 10-4-16; 8:45 am]

BILLING CODE 4310-GG-P